DEPARTMENT OF HEALTH AND HUMAN SERVICES

Centers for Disease Control and Prevention

[30Day-19-18FO]

Agency Forms Undergoing Paperwork Reduction Act Review

In accordance with the Paperwork Reduction Act of 1995, the Centers for Disease Control and Prevention (CDC) has submitted the information collection request titled Delta Impact Recipient Monitoring and Assessment Tools to the Office of Management and Budget (OMB) for review and approval. CDC previously published a “Proposed Data Collection Submitted for Public Comment and Recommendations” notice on January 19, 2018 to obtain comments from the public and affected agencies. CDC received two anonymous non-substantive public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

DELTA Impact Recipient Monitoring and Assessment Tools—New—National Center for Injury Prevention and Control (NCIPC), Centers for Disease Control and Prevention (CDC).

Background and Brief Description

Violence is a serious, yet preventable, public health problem. Intimate partner violence (IPV) affects millions of women, men, and children. In the United States, one in four women and one in nine men experience contact sexual violence, physical violence, and/or stalking by an intimate partner with a negative impact such as injury, fear, concern for safety, or needing services. The Centers for Disease Control and Prevention's (CDC) National Intimate Partner and Sexual Violence Survey (NISVS) data showed many victims of IPV began experiencing these forms of violence prior to adulthood.

Authorized by the Family Violence and Prevention Services Act (FVPSA) statute (42 U.S.C. 10414), CDC has funded the Domestic Violence Prevention Enhancements and Leadership Through Alliances (DELTA) Program since 2002. The DELTA program funds State Domestic Violence Coalitions to implement statewide IPV prevention efforts, while also providing assistance and funding for local communities to implement IPV prevention activities. The DELTA Impact cooperative agreement advances IPV prevention activities through these components: 1. Implementation and program evaluation of state and local level IPV prevention strategies targeting community or societal level change using a public health approach and effective prevention principles. 2. Development or enhancement of a State Action Plan (SAP) to increase the use of data for planning and the prioritization of primary prevention of IPV based on any existing health inequities within their jurisdictions. 3. Provision of training and technical assistance (TA) to DELTA Impact organizations on the implementation of IPV prevention strategies.

The Centers for Disease Control and Prevention (CDC) seeks OMB approval to collect annual progress report (APR) information from the currently grantees funded under Domestic Violence Prevention Enhancement and Leadership Through Alliances (DELTA) Impact. Recipients will report relevant information on the implementation of their prevention strategies, implementation of statewide planning, as well as the extent to which they implement and evaluate multiple specific prevention programs. These data will be submitted through an electronic reporting system at the time of their annual non-competing continuation application. The report has been designed in a way that collects consistent information across recipients while allowing the flexibility to account for varying prevention strategies.

Information to be collected will provide crucial data for program performance monitoring, will allow CDC to analyze and synthesize information from grantees, help ensure consistency in documenting progress and technical assistance, enhance accountability of the use of federal funds, and provide timely reports as frequently requested by HHS, the White House, and Congress.

Submission of the Annual Progress Report is required for cooperative agreement grantees. Over the three-year period of this information collection request, the annualized estimated burden for 10 recipients is 117 with a total three-year burden of 350 hours. There is no cost to respondents other than their time.

Estimated Annualized Burden Hours
Type of respondents | Form name | Number of respondents | Number of responses per respondent | Average burden per response (in hours)
DELTA Impact Program Recipients State Domestic Violence Coalitions | Annual Progress Report—Year 1 | 10 | 1 | 5
| Annual Progress Report—Year 2 and 3 | 10 | 2 | 3.3

Jeffrey M. Zirger,
Acting Chief, Office of Scientific Integrity, Office of the Associate Director for Science, Office of the Director, Centers for Disease Control and Prevention.

[FR Doc. 2018-22007 Filed 10-9-18; 8:45 am]

BILLING CODE 4163-18-P